ENVIRONMENTAL PROTECTION AGENCY

[ER-FRL-6675-9]

Notice of Intent: Intent to Prepare a Supplemental Environmental Impact Statement (SEIS) for the Chuitna Coal Project in Southcentral Alaska

AGENCY: U.S. Environmental Protection Agency.

Purpose: In accordance with section 102(2)(C) of the National Environmental Policy Act (NEPA), EPA, as the lead Federal agency, has identified a need to prepare a Supplemental Environmental Impact Statement (SEIS) and therefore issues this Notice of Intent in accordance with 40 CFR 1501.7.

For a Copy of the Scoping Document and to be Placed on the Project Mailing List Contact: Hanh Shaw, Project Manager, Office of Water and Watersheds (OWW-130), U.S. EPA Region 10, 1200 Sixth Avenue, Seattle, Washington 98101, Telephone: (206) 553-0171, Fax: (206) 553-0165, E-mail: shaw.hanh@epa.gov.

SUMMARY: The Chuitna Coal Project (Project) is located on State of Alaska land in the Beluga Coal Field, approximately 45 miles west of Anchorage, Alaska. The Project is based on the development of a 1 billion ton, ultra low sulfur, subbituminous coal resource. The proposed Project includes a surface coal mine and associated support facility, mine access road, coal transport conveyor, personnel housing, air strip facility, a logistic center, and coal export terminal. The proposed coal mine is located approximately 10 miles inland from the Native Village of Tyonek and Cook Inlet. The project proponent, PacRim Coal, LP, predicts a coal production rate of approximately 15 million tons per year, and a 25-year mine life based on current estimated coal reserves.

A previous Project design was evaluated in an EIS and permitted by most of the applicable State and Federal regulatory programs in the early 1990s, although the Project did not proceed to development. There have been substantial changes in the Project design and in the regulatory requirements since this project went through the first permitting and EIS process. Therefore, a comprehensive, stand-alone Supplemental EIS will be prepared for the new proposal.

The administrative actions that the SEIS must address include issuing an EPA Clean Water Act (CWA) National Pollutant Discharge Elimination System (NPDES) new source permit and a U.S. Army Corps of Engineers CWA section 404 and Rivers and Harbors Act section 10 permit. The SEIS will also address issues related to the Alaska Surface Coal Mining Control and Reclamation Act (ASCMCRA) permit, which governs all aspects of the mining operation and infrastructure. The U.S. Army Corps of Engineers and the State of Alaska are participating as cooperating agencies in the NEPA process.

Alternatives: The alternatives to be evaluated include: The “no action” alternative, wastewater discharge alternatives and alternative discharge locations. In addition, the SEIS will evaluate mine access road and conveyor alignment alternatives, and coal export terminal alternatives. Additional alternatives may be developed based on comments received during scoping.

Scoping: The public scoping period begins with the publication of this Notice and concludes July 24, 2006. EPA invites Federal agencies, Native Tribes, State and local governments, and members of the public to comment on the scope of the SEIS. Scoping meetings for the purpose of identifying issues to be evaluated in the SEIS will be held in Kenai on July 10, in Anchorage on July 11, and in the Tyonek and Beluga communities on July 12, 2006. The exact locations and times of the meetings will be announced in local papers. The public is invited to attend and identify issues that should be addressed in the SEIS. A scoping document that explains in greater detail the project and alternatives identified at this time will be sent to known interested parties. The public can obtain a copy of the scoping document by contacting Hanh Shaw at the phone number, e-mail address, and mailing address listed at the above in this notice.

How to Comment: EPA invites public comment on the proposed scope of this SEIS. Comments may be submitted by mail, electronic mail, or fax, to Hanh Shaw at the contact information above, by July 24, 2006.

Estimated Date of DSEIS Release: February 2007.

Responsible Official: Ron Kreizenbeck, Deputy Regional Administrator.

Dated: June 6, 2006.
Robert W. Hargrove,
Division Director, NEPA Compliance Division, Office of Federal Activities.

[FR Doc. E6-8998 Filed 6-8-06; 8:45 am]

BILLING CODE 6560-50-P